ENVIRONMENTAL PROTECTION AGENCY

[ER-FRL-9034-1]

Environmental Impact Statements; Notice of Availability

Responsible Agency: Office of Federal Activities, General Information (202) 564-7146 or http://www.epa.gov/nepa.

Weekly receipt of Environmental Impact Statements (EISs)

Filed 06/26/2017 Through 06/30/2017

Pursuant to 40 CFR 1506.9.

Notice

Section 309(a) of the Clean Air Act requires that EPA make public its comments on EISs issued by other Federal agencies. EPA's comment letters on EISs are available at: http://www.epa.gov/compliance/nepa/eisdata.html.

EIS No. 20170117, Final Supplement, FHWA, AK, Gravina Access Project, Review Period Ends: 08/06/2017, Contact: Karen Pinell 907-586-7158.

EIS No. 20170118, Draft, BLM, WY, Normally Pressured Lance Natural Gas Development Project, Comment Period Ends: 08/21/2017, Contact: Susan (Liz) Daily 307-367-5310.

EIS No. 20170119, Draft, AFS, CA, Mammoth Base Area Land Exchange, Comment Period Ends: 08/21/2017, Contact: Janelle Walker 760-924-5523.

EIS No. 20170120, Draft, USFS, CA, Highway 89 Safety Enhancement and Forest Ecosystem Restoration Project, Comment Period Ends: 08/21/2017, Contact: Ann Glubczynski 530-964-2184.

EIS No. 20170121, Final Supplement, USN, NAT, Surveillance Towed Array Sensor System (SURTASS LFA) Sonar, Review Period Ends: 08/07/2017, Contact: CDR Patrick Havel 703-695-8266.

EIS No. 20170122, Draft Supplement, USFS, CO, Rico West Dolores Roads and Trails Travel Management Project, Comment Period Ends: 08/21/2017, Contact: Deborah Kill 970-882-6822.

EIS No. 20170123, Draft, USFS, OR, Lobert Restoration Project, Comment Period Ends: 08/21/2017, Contact: Kyle Gomez 541-883-6734.

EIS No. 20170124, Draft, FRA, NJ, Hudson Tunnel Project, Comment Period Ends: 08/21/2017, Contact: Amishi Castelli 617-431-0416.

Amended Notices

EIS No. 20170114, Draft, USN, PRO, Atlantic Fleet Training and Testing, Comment Period Ends: 08/29/2017, Contact: Todd Kraft 757-836-2943 Revision of the FR Notice Published 06/30/2017; Correction to Comment Period Ends from 08/14/2017 to 08/29/2017.

Dated: July 3, 2017.
Dawn Roberts,
Management Analyst, NEPA Compliance Division, Office of Federal Activities.

[FR Doc. 2017-14284 Filed 7-6-17; 8:45 am]

BILLING CODE 6560-50-P